DEPARTMENT OF THE INTERIOR

National Park Service

Environmental Statements, Notice of Intent; Niobrara National Scenic River, Nebraska

AGENCY: National Park Service, Interior.

ACTION: Notice of Intent to prepare an Environmental Impact Statement for the General Management Plan, Niobrara National Scenic River, Nebraska.

SUMMARY: The National Park Service will prepare a General Management Plan (GMP) and an Environmental Impact Statement (EIS) for the Niobrara National Scenic River (hereinafter, “the Park”), Nebraska, in accordance with section 102(2)(C) of the National Environmental Policy Act of 1969 (NEPA), and a court decision invalidating a similar 1996 GMP/EIS and ordering a new one. This notice is being furnished as required by NEPA Regulation 40 CFR 1501.7.

To facilitate sound planning and environmental assessment in the preparation of this EIS, the National Park Service intends to both validate information previously acquired for the 1996 GMP/EIS, and obtain suggestions and information from other agencies and the public on several court-driven issues to be addressed in the new EIS. The National Park Service will scope this GMP/EIS via the media, a newsletter, and through a World Wide Web page. Comments and participation in this scoping process are invited.

DATES: A project newsletter is being prepared, which is expected to be ready in February or March 2000. The newsletter will contain specific information about how to provide input to the scoping phase of this project. Availability of the newsletter will be announced through local and regional media outlets. The newsletter will be sent to all addressees of record in the planning of the park's 1996 GMP/EIS, and to others who request the newsletter. To request a copy of the newsletter and to be added to the project mailing list, contact the park superintendent at 402-336-3970 or by writing to one of the addresses below.

ADDRESSES: Written comments and information should be directed to Superintendent, Niobrara National Scenic River, P.O. Box 591, O'Neill, Nebraska 68763; or by email, niob_gmp@nps.gov.

FOR FURTHER INFORMATION CONTACT: Superintendent, Niobrara National Scenic River, at either of the above addresses or at telephone number 402-336-3970

SUPPLEMENTARY INFORMATION: A federal district court overturned the park's 1996 GMP/EIS in June 1999. The court did not invalidate the entire document, however, and specifically retained that section pertaining to the park's boundary. The broad array of issues identified in the 1996 GMP/EIS, including land ownership, landscape conservation, water resource protection, hunting, fishing, and trapping, and visitor education and protection appear valid but reaffirmation will be sought through scoping. The lawsuit prompting the court ruling particularly challenged National Park Service's 1996 preferred management alternative and the associated environmental analysis. Since completion of the earlier document several additional issues such as retention of the Cornell Dam, public use limits, adequacies of public accesses, and general public orientation and education have arisen. The NPS proposes to address these new issues as part of the GMP.

Specific examples of other issues that will be addressed in the GMP are: (1) The extent and manner in which partnerships can and will be employed to achieve management objectives, (2) identify appropriate access and development in the park, particularly balancing growing park use and resource protection; and (3) identity appropriate land protection strategies workable on a predominantly privately owned landscape. Other issues may be added to this list following completion of scoping.

The new GMP will set forth a management concept for the park; establish plans for resource conservation, public use, and development; and identify strategies for resolving issues and achieving management objectives. It is expected that the GMP will guide park management for a period of fifteen to twenty years.

The GMP/EIS will investigate alternatives ranging from no action to a variety of management approaches designed to guide public use and protect natural and cultural resources.

The environmental review of the GMP for the Niobrara National Scenic River will be conducted in accordance with requirements of NEPA (42 U.S.C. 4321 et seq.), NEPA regulations, and National Park Service procedures and policies for compliance with those regulations. The National Park Service estimates the draft GMP and draft EIS will be available to the public by November 2000.

Dated: February 15, 2000.
Catherine A. Damon,
Acting Regional Director.

[FR Doc. 00-4631 Filed 2-25-00; 8:45 am]

BILLING CODE 4310-70-P